DEPARTMENT OF HEALTH AND HUMAN SERVICES

[Document Identifier: OS-0990-New]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 23, 2023.

ADDRESSES: Submit your comments to Sherrette.Funn@hhs.gov or by calling (202) 264-0041.

FOR FURTHER INFORMATION CONTACT: When submitting comments or requesting information, please include the document identifier 0990-New-60D and project title for reference, to Sherrette A. Funn, email: Sherrette.Funn@hhs.gov, or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Confidentiality of Substance Use Disorder Patient Records—42 CFR part 2 (formerly titled Confidentiality of Alcohol and Drug Abuse Patient Records—42 CFR part 2).

Type of Collection: Extension.

OMB No.: 0930-0092.

Abstract: The Substance Abuse and Mental Health Services Administration (SAMHSA) (through the Office for Civil Rights (OCR) requests approval to extend this existing, approved collection without changing any collecting requirements. OCR also expects to obtain public comment through a Notice of Proposed Rulemaking (NPRM) proposing modifications to 42 CFR part 2 that will affect the hourly burdens associated with the regulations. When the NPRM is published, we expect to receive robust public comment on existing burdens associated with compliance with the part 2 regulation and on changes in burden that could result from the modifications proposed in the NPRM. OCR will update this ICR to reflect the input we receive on this notice and through the rulemaking process.

Likely Respondents: Part 2 programs, qualified service organizations, patients with substance use disorders, and professional and trade associations of SUD treatment providers.

Annualized Burden Hour Table
42 CFR | Annual number respondents (SUD programs) | Responses per respondent | Total responses (number of Tx admissions) | Hours per response | Total hour burden
§ 2.22 | 13,585 | 122.1 | 1,658,729 | 0.20 | 331,746
§§ 2.31, 2.52, and 2.53 | 13,585 | 18.31 | 248,741 | 0.62 | 155,463
§ 2.36 | 13,585 | 195.8 | 2,659,943 | 0.033 | 87,778
§ 2.51 | 13,585 | 2 | 27,170 | 0.167 | 4,537
Total | 13,585 |  | 4,594,583 |  | 579,524

Carlos Graham,
Reports Clearance Officer.

[FR Doc. 2022-25343 Filed 11-21-22; 8:45 am]

BILLING CODE 4162-20-P